DEPARTMENT OF DEFENSE

Office of the Secretary

[Transmittal No. 25-1P]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1P.

Dated: February 5, 2026.
Stephanie J. Bost,
Alternate OSD Federal Register Liaison Officer, Department of Defense.

BILLING CODE 6001-FR-P

BILLING CODE 6001-FR-C

Transmittal No. 25-1P

REPORT OF ENHANCEMENT OR UPGRADE OF SENSITIVITY OF TECHNOLOGY OR CAPABILITY (SEC. 36(B)(5)(C), AECA)

(i) Prospective Purchaser: Republic of Korea

(ii) Sec. 36(B)(1), AECA Transmittal No.: 20-23

Date: April 10, 2020

Implementing Agency: Air Force

(iii) Description: On April 10, 2020, Congress was notified by congressional certification transmittal number 20-23 of the possible sale, under Section 36(b)(1) of the Arms Export Control Act, of Follow-on support and services for Republic of Korea's F-35 aircraft, engines, and weapons; publications and technical documentation; support equipment; spare and repair parts; repair and return; test equipment; software delivery and support; pilot flight equipment; personnel training equipment; United States (U.S.) Government and contractor technical and logistics support services; and other related elements of program support. The estimated total cost was $675 million. There was no Major Defense Equipment (MDE) associated with this sale.

On September 21, 2023, Congress was notified by congressional certification transmittal number 23-0O of the inclusion of continued Contractor Logistics Support (CLS) for the F-35 program; electronic warfare (EW) data and Reprogramming Lab support; Cartridge Actuated Devices/Propellant Actuated Devices (CAD/PAD); classified software development, delivery, and support; aircraft engine Component Improvement Program (CIP) support; transportation support; and engineering technical assistance. The total cost of the new non-MDE items was $565 million, however only a net increase in total non-MDE of $545 million was required. The estimated total case value increased to $1.22 billion. There was no MDE associated with this sale.

This transmittal notifies the inclusion of the following non-MDE items: clothing textiles and individual equipment; programmed depot maintenance; weapon system support; and other related elements of logistics and program support. The estimated total cost of the new items is $260 million. The total case value will increase by $260 million to $1.48 billion. There is no MDE associated with this sale.

(iv) Significance: This proposed sale will sustain the Republic of Korea'sF-35 fleet readiness and increase aircraft reliability and maintainability.

(v) Justification: This proposed sale will support the foreign policy and national security objectives of the U.S. by improving the security of a major non-NATO ally that is a force for political stability and economic progress in the Pacific region.

(vi) Sensitivity of Technology:

The Sensitivity of Technology Statement contained in the original notification applies to items reported here.

The highest level of classification of defense articles, components, and services included in this potential sale is SECRET.

(vii) Date Report Delivered to Congress: December 5, 2025.

[FR Doc. 2026-02526 Filed 2-6-26; 8:45 am]

BILLING CODE 6001-FR-P